DEPARTMENT OF ENERGY

Federal Energy Regulatory Commission

[Docket No. EL19-50-000]

Louisiana Public Service Commission v. Entergy Corporation, Entergy Services, LLC, Entergy Louisiana, LLC, Entergy Arkansas, LLC, Entergy Mississippi, LLC, Entergy New Orleans, LLC, Entergy Texas, Inc.; Notice of Complaint

Take notice that on February 27, 2019, pursuant to Rules 206 and 207 of the Federal Energy Regulatory Commission's (Commission) Rules and Practice and Procedure, 18 CFR 386.206 and sections 205, 206, 306 and 309 of the Federal Power Act, 16 U.S.C. 824d, 824e, 825c, and 825h, Louisiana Public Service Commission (Complainant) filed a formal complaint against Entergy Corporation, Entergy Services, LLC, Entergy Louisiana, LLC, Entergy Arkansas, LLC, Entergy Mississippi, LLC, Entergy New Orleans, LLC, and Entergy Texas, Inc. Interconnection, L.L.C. (collectively, Entergy or Respondents) alleging that joint account sales of electric energy by Entergy to third party power marketers and others that are not members of the Entergy System Agreement from the Grand Gulf Retained Share owned by Entergy Arkansas violated the provisions of the System Agreement that determine the reimbursement for energy generated to supply joint account sales and the margins on those sales of energy generated by System resources, all as more fully explained in the complaint.

The Louisiana Public Service Commission certifies that copies of the complaint were served on the contacts for Entergy Corporation, Entergy Services, LLC, Entergy Louisiana, LLC, Entergy Arkansas, LLC, Entergy Mississippi, LLC, Entergy New Orleans, LLC, and Entergy Texas, Inc., as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the eFiling link at http://www.ferc.gov. Persons unable to file electronically should submit an original and 5 copies of the protest or intervention to the Federal Energy Regulatory Commission, 888 First Street NE, Washington, DC 20426.

This filing is accessible on-line at http://www.ferc.gov, using the eLibrary link and is available for electronic review in the Commission's Public Reference Room in Washington, DC. There is an eSubscription link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on March 19, 2019.

Dated: March 1, 2019.
Kimberly D. Bose,
Secretary.

[FR Doc. 2019-04149 Filed 3-6-19; 8:45 am]

BILLING CODE 6717-01-P